DEPARTMENT OF ENERGY

[Number DE-PS07-04ID14435]

Nuclear Power 2010 Program—New Nuclear Power Plant Licensing Demonstration Projects

AGENCY: Idaho Operations Office (NE-ID), U.S. Department of Energy.

ACTION: Notice of solicitation inviting cooperative agreement applications.

SUMMARY: The U.S. Department of Energy (DOE) is seeking applications for financial assistance from power generation companies or teams led by power generation companies for projects that enable a new nuclear power plant to be ordered and licensed for deployment in the United States within the decade. For the purposes of this solicitation, project applications are sought which implement a power generation company plan of activities leading to a combined Construction and Operating License (COL) for a new nuclear power plant. The plan is expected to address power generation company activities for design completion of a standardized advanced reactor plant, preparation and submission of a COL application and support of NRC review and hearings associated with the application. For conduct of these projects, DOE encourages innovative business arrangements, such as consortia among power generation companies, plant owners/operators, reactor vendors, architect engineers and constructors with strong and common commitment to build and operate new nuclear power plants in the United States.

DATES: The issuance date of Solicitation Number DE-PS07-04ID14435 will be on November 19, 2003. Applications may be submitted at any time during the open solicitation period, December 20, 2003, through December 31, 2004. Applications will be evaluated as they are received. Merit selection and the issuance of an award may occur anytime during the application acceptance timeframe. Merit selection activities will take approximately six to eight weeks after DOE has received the initial technical application. Issuance of an award is expected to be complete approximately ten weeks after selection. A pre-bid submission briefing for all interested parties has been scheduled on December 11, 2003. This meeting will be held at the Residence Inn located on 550 Army Navy Drive in Arlington, Virginia, phone number: 703-413-6630. The meeting will begin at 1 p.m.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Layne Isom, Contract Specialist, isomla@id.doe.gov.

SUPPLEMENTARY INFORMATION: Applications are limited to power companies or teams led by power companies and plant owners/operators with appropriate participation from reactor vendors, other suppliers, architect-engineers and constructors. A fifty percent (50%) minimum industry cost share, consisting of contributions from power generation companies and other participants, is required over the life of the cooperative agreements for all projects. Industry cost share may be provided as cash or as in-kind cost share. Industry cost share may not include other federal funding. In-kind cost share must directly relate to the scope of the specific project. It is anticipated that FY 2004 appropriations for Nuclear Power 2010 activities would contain sufficient funds to make up to $15,000,000 available to fund the first year of the effort anticipated by this solicitation. Subsequent year funding will depend upon future appropriations. The statutory authority for this program is section 31 of the Atomic Energy Act, 42 U.S.C. 2051.

The Catalog of Federal Domestic Assistance (CFDA) Number for this program is 81.121, Nuclear Energy Research, Development and Demonstration.
Issued in Idaho Falls on November 19, 2003.
Michael L. Adams,
Acting Director, Procurement Services Division.

[FR Doc. 03-29402 Filed 11-24-03; 8:45 am]

BILLING CODE 6450-01-P